ENVIRONMENTAL PROTECTION AGENCY

[FRL-8287-7]

Clean Water Act Section 303(d): Availability of List Decisions

AGENCY: Environmental Protection Agency (EPA).

ACTION: Notice of availability.

SUMMARY: This action announces the availability of EPA decisions identifying water quality limited segments and associated pollutants in California to be listed pursuant to Clean Water Act section 303(d)(2), and requests public comment. Section 303(d)(2) requires that states submit and EPA approve or disapprove lists of waters for which existing technology-based pollution controls are not stringent enough to attain or maintain state water quality standards and for which total maximum daily loads (TMDLs) must be prepared.

On November 30, 2006, EPA partially approved California's 2004-2006 303(d) submittal. Specifically, EPA approved California's proposal to list impaired waters and associated pollutants. On March 8, 2007, EPA partially disapproved California's decisions not to list 64 water quality limited segments and associated pollutants, and additional pollutants for 37 water bodies already listed by the State. EPA identified these additional water bodies and pollutants for inclusion on the State's 2004-2006 section 303(d) list.

EPA is providing the public the opportunity to review its decisions to add waters and pollutants to California 2004-2006 section 303(d) list, as required by EPA's Public Participation regulations. EPA will consider public comments in reaching its final decisions on the additional water bodies and pollutants identified for inclusion on California's final lists.

DATES: Comments must be submitted to EPA on or before April 16, 2007.

ADDRESSES: Comments on the proposed decisions should be sent to Peter Kozelka, TMDL Liaison, Water Division (WTR-2), U.S. Environmental Protection Agency Region IX, 75 Hawthorne Street, San Francisco, CA 94105, telephone (415) 972-3448, facsimile (415) 947-3537, e-mail kozelka.peter@epa.gov. Oral comments will not be considered. Copies of the decisions concerning California's 303(d) list which explain the rationale for EPA's decisions can be obtained at EPA Region 9's Web site at http://www.epa.gov/region9/water/tmdl/303d.html by writing or calling Mr. Kozelka at the above address. Underlying documentation comprising the record for these decisions is available for public inspection at the above address.

FOR FURTHER INFORMATION CONTACT: Peter Kozelka at (415) 972-3448 or kozelka.peter@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water quality limited waters still requiring TMDLs every two years. The lists of waters still needing TMDLs must also include priority rankings and must identify the waters targeted for TMDL development during the next two years (40 CFR 130.7). On March 31, 2000, EPA promulgated a revision to this regulation that waived the requirement for states to submit Section 303(d) lists in 2000 except in cases where a court order, consent decree, or settlement agreement required EPA to take action on a list in 2000 (65 FR 17170).

Consistent with EPA's regulations, California submitted to EPA its listing decisions under Section 303(d)(2) on November 24, 2006. On November 30, 2006, EPA approved California's list of impaired waters, except Walnut Creek Toxicity. EPA disapproved California's decisions not to list 64 water quality limited segments and associated pollutants, and additional pollutants for 37 water bodies already listed by the State. EPA identified these additional waters and pollutants for inclusion on the 2004-2006 Section 303(d) list. EPA solicits public comment on its identification of these additional waters and associated pollutants for inclusion on California's 2004-2006 Section 303(d) list.

Dated: March 8, 2007.
Alexis Strauss,
Director, Water Division, Region IX.

[FR Doc. E7-4663 Filed 3-14-07; 8:45 am]

BILLING CODE 6560-50-P